DEPARTMENT OF DEFENSE

Office of the Secretary

[Transmittal No. 23-22]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-22, Policy Justification, and Sensitivity of Technology.

Dated: December 20, 2024.
Stephanie J. Bost,
Alternate OSD Federal Register Liaison Officer, Department of Defense.

Transmittal No. 23-22

Notice of Proposed Issuance of Letter of Offer

Pursuant to Section 36(b)(1) of the Arms Export Control Act, as Amended

(i) Prospective Purchaser: Republic of Kosovo

(ii) Total Estimated Value:

Major Defense Equipment * | $55 million
Other | $20 million
TOTAL | $75 million
* As defined in Section 47(6) of the Arms Export Control Act.

Funding Source: National Funds

(iii) Description and Quantity or Quantities of Articles or Services under Consideration for Purchase:

Major Defense Equipment (MDE):

Two hundred forty-six (246) Javelin FGM-148F Missiles (includes six (6) Fly-to-Buy Missiles)

Twenty-four (24) Javelin Lightweight Command Launch Units (LWCLU)

Non-MDE:

Also included are Javelin LWCLU Basic Skills Trainers; Javelin Outdoor Trainers; Missile Simulation Rounds; Outdoor Training Instructor Stations (OTIS); Battery Coolant Units (BCUs); System Integration and Check out (SICO); Life Cycle Support (LCS); Javelin Restricted Interactive Electronic Technical Manual (IETM); Javelin Operator Manual and Technical Assistance (TAGM); tools; Javelin gunner training; Ammunition Technical Officer (ATO) training; Javelin maintenance training; and other elements of logistics and program support.

(iv) Military Department: Army (KV-B-UBO)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: January 11, 2024

POLICY JUSTIFICATION

Kosovo—Javelin Missiles

The Republic of Kosovo has requested to buy two hundred forty-six (246) Javelin FGM-148F missiles (includes six (6) fly-to-buy missiles); and twenty-four (24) Javelin Lightweight Command Launch Units (LWCLU). Also included are Javelin LWCLU Basic Skills Trainers; Javelin Outdoor Trainers; Missile Simulation Rounds; Outdoor Training Instructor Stations (OTIS); Battery Coolant Units (BCUs); System Integration and Check out (SICO); Life Cycle Support (LCS); Javelin Restricted Interactive Electronic Technical Manual (IETM); Javelin Operator Manual and Technical Assistance (TAGM); tools; Javelin gunner training; Ammunition Technical Officer (ATO) training; Javelin maintenance training; and other elements of logistics and program support. The total estimated cost is $75 million.

This proposed sale will support the foreign policy goals and national security of the United States (U.S.) by improving the security of a European partner which is an important force for political and economic stability in Europe.

The proposed sale will improve Kosovo's long-term defense capacity to defend its sovereignty and territorial integrity to meet its national defense requirements. Kosovo will have no difficulty absorbing this equipment into its armed forces.

The proposed sale of this equipment and support will not alter the basic military balance in the region.

The prime contractors will be the Javelin Joint Venture between Lockheed Martin in Orlando, FL and Raytheon Missiles and Defense in Tucson, AZ. There are no known offset agreements in connection with this potential sale.

Implementation of this proposed sale will not require the assignment of U.S. Government or contractor representatives to Kosovo.

There will be no adverse impact on U.S. defense readiness as a result of this proposed sale.

Transmittal No. 23-22

Notice of Proposed Issuance of Letter of Offer Pursuant to Section 36(b)(1) of the Arms Export Control Act

Annex

Item No. vii

(vii) Sensitivity of Technology:

1. The Javelin Weapon System is a medium-range, man portable, shoulder-launched, fire and forget, anti-tank system for infantry, scouts, and combat engineers. It may also be mounted on a variety of platforms including vehicles, aircraft and watercraft. The system weighs 49.5 pounds and has a maximum range in excess of 2,500 meters. The system is highly lethal against tanks and other systems with conventional and reactive armors. The system possesses a secondary capability against bunkers.

2. Javelin's key technical feature is the use of fire-and-forget technology which allows the gunner to fire and immediately relocate or take cover. Additional special features are the top attack and/or direct fire modes, an advanced tandem warhead and imaging infrared seeker, target lock-on before launch, and soft launch from enclosures or covered fighting positions. The Javelin missile also has a minimum smoke motor thus decreasing its detection on the battlefield.

3. The Javelin Weapon System is comprised of two major tactical components, which are a reusable LWCLU and a round contained in a disposable launch tube assembly. The LWCLU incorporates an integrated day-night sight that provides a target engagement capability in adverse weather and countermeasure environments. The LWCLU may also be used in a stand-alone mode for battlefield surveillance and target detection. The LWCLU's thermal sight is a 3rd generation Forward Looking Infrared (FLIR) sensor. To facilitate initial loading and subsequent updating of software, all on-board missile software is uploaded via the LWCLU after mating and prior to launch.

4. The missile is autonomously guided to the target using an imaging infrared seeker and adaptive correlation tracking algorithms. This allows the gunner to take cover or reload and engage another target after firing a missile. The missile has an advanced tandem warhead and can be used in either the top attack or direct fire modes (for target undercover). An onboard flight computer guides the missile to the selected target.

5. The highest level of classification of defense articles, components, and services included in this potential sale is SECRET.

6. If a technologically advanced adversary obtains knowledge of the specific hardware and software elements, the information could be used to develop countermeasures or equivalent systems that might reduce weapon system effectiveness or be used in the development of a system with similar or advanced capabilities.

7. A determination has been made that Kosovo can provide substantially the same degree of protection for the sensitive technology being released as the U.S. Government. This proposed sale is necessary to further the U.S. foreign policy and national security objectives outlined in the Policy Justification.

8. All defense articles and services listed on this transmittal are authorized for release and export to Kosovo.

[FR Doc. 2024-31138 Filed 12-30-24; 8:45 am]

BILLING CODE 6001-FR-P